SECURITIES AND EXCHANGE COMMISSION

Proposed Collection; Comment Request

Upon Written Request, Copies Available From: Securities and Exchange Commission, Office of FOIA Services, 100 F Street NE., Washington, DC 20549-2736.

Extension:

Rule 6a-4, Form 1-N; SEC File No. 270-496, OMB Control No. 3235-0554.

Notice is hereby given that pursuant to the Paperwork Reduction Act of 1995 (44 U.S.C. 3501 et seq.), the Securities and Exchange Commission (“Commission”) is soliciting comments on the collection of information provided for in Rule 6a-4 and Form 1-N, summarized below. The Commission plans to submit this existing collection of information to the Office of Management and Budget for extension and approval. The Code of Federal Regulation citation to this collection of information is 17 CFR 240.6a-4 and 17 CFR 249.10 under the Securities Exchange Act of 1934 (15 U.S.C. 78a et seq.) (the “Act”).

Section 6 of the Act ¹ sets out a framework for the registration and regulation of national securities exchanges. Under the Commodity Futures Modernization Act of 2000, a futures market may trade security futures products by registering as a national securities exchange. Rule 6a-4 ² sets forth these registration procedures and directs futures markets to submit a notice registration on Form 1-N.³ Form 1-N calls for information regarding how the futures market operates, its rules and procedures, corporate governance, its criteria for membership, its subsidiaries and affiliates, and the security futures products it intends to trade. Rule 6a-4 also requires entities that have submitted an initial Form 1-N to file: (1) Amendments to Form 1-N in the event of material changes to the information provided in the initial Form 1-N; (2) periodic updates of certain information provided in the initial Form 1-N; (3) certain information that is provided to the futures market's members; and (4) a monthly report summarizing the futures market's trading of security futures products. The information required to be filed with the Commission pursuant to Rule 6a-4 is designed to enable the Commission to carry out its statutorily mandated oversight functions and to ensure that registered and exempt exchanges continue to be in compliance with the Act.

¹ 15 U.S.C. 78f.

² 17 CFR 240.6a-4.

³ 17 CFR 249.10.

The respondents to the collection of information are futures markets.

The Commission estimates that the total annual burden for all respondents to provide ad hoc amendments ⁴ to keep the Form 1-N accurate and up to date as required under Rule 6a-4 would be 60 hours (15 hours/respondent per year × 4 respondents ⁵) and $400 of miscellaneous clerical expenses. The Commission estimates that the total annual burden for all respondents to provide annual and three-year amendments ⁶ under Rule 6a-4 would be 88 hours (22 hours/respondent per year × 4 respondents) and $576 ($144 per year × 4 respondents ⁷). The Commission estimates that the total annual burden for the filing of the supplemental information ⁸ and the monthly reports required under Rule 6a-4 would be 24 hours (6 hours/respondent per year × 4 respondents ⁹) and $240 of miscellaneous clerical expenses. Thus, the Commission estimates the total annual burden for complying with Rule 6a-4 is 172 hours and $1216 in miscellaneous clerical expenses.

⁴ 17 CFR 240.6a-4(b)(1).

⁵ The Commission estimates that four exchanges will file amendments with the Commission in order to keep their Form 1-N current.

⁶ 17 CFR 240.6a-4(b)(3) and (4).

⁷ The Commission notes that while there are currently five Security Futures Product Exchanges, one of those exchanges, NQLX, is dormant.

⁸ 17 CFR 240.6a-4(c).

⁹ See supra footnote 7.

Compliance with Rule 6a-4 is mandatory. Information received in response to Rule 6a-4 shall not be kept confidential; the information collected is public information.

Written comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Consideration will be given to comments and suggestions submitted in writing within 60 days of this publication.

An agency may not conduct or sponsor, and a person is not required to respond to, a collection of information under the PRA unless it displays a currently valid OMB control number.

Please direct your written comments to: Pamela Dyson, Director/Chief Information Officer, Securities and Exchange Commission, c/o Remi Pavlik-Simon, 100 F Street NE., Washington, DC 20549 or send an email to: PRA_Mailbox@sec.gov.

Dated: October 12, 2016.
Robert W. Errett,
Deputy Secretary.

[FR Doc. 2016-25089 Filed 10-17-16; 8:45 am]

BILLING CODE 8011-01-P